AFRICAN DEVELOPMENT FOUNDATION

Sunshine Act Meeting

Time: 11 a.m. to 5 p.m.

Place: ADF Headquarters.

Date: Monday, November 17, 2003.

Status: Open.

Agenda

11 a.m.—Chairman's Report

11:30 a.m.—President's Report

1 p.m.—New Business

5 p.m.—Adjournment

If you have any questions or comments, please direct them to Doris Martin, General Counsel, who may be reached at (202) 673-3916.

Nathaniel Fields,
President.

[FR Doc. 03-28152 Filed 11-4-03; 4:24 pm]

BILLING CODE 6116-01-P